DEPARTMENT OF VETERANS AFFAIRS

[OMB Control No. 2900-0020]

Agency Information Collection Activity Under OMB Review: Designation of Beneficiary—Government Life Insurance and Supplemental Designation of Beneficiary—Government Life Insurance

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by January 29, 2025.

ADDRESSES: To submit comments and recommendations for the proposed information collection, please type the following link into your browser: www.reginfo.gov/public/do/PRAMain, select “Currently under Review—Open for Public Comments”, then search the list for the information collection by Title or “OMB Control No. 2900-0020.”

FOR FURTHER INFORMATION CONTACT: VA PRA information: Maribel Aponte, (202) 461-8900, vacopaperworkreduact@va.gov.

SUPPLEMENTARY INFORMATION:

Title: Designation of Beneficiary—Government Life Insurance and Supplemental Designation of Beneficiary—Government Life Insurance (VA Forms 29-336 and 29-336a).

OMB Control Number: 2900-0020 https://www.reginfo.gov/public/do/PRASearch.

Type of Review: Revision of a currently approved collection.

Abstract: These forms are used by the insured to designate beneficiaries and select an optional settlement to be used when the insurance matures by death. The information is required to determine the claimant's eligibility to receive the proceeds. The information on the form is required by law, 38 U.S.C. 1917, 1949 and 1952.

An agency may not conduct or sponsor, and a person is not required to respond to a collection of information unless it displays a currently valid OMB control number. The Federal Register Notice with a 60-day comment period soliciting comments on this collection of information was published at 89 FR 85009, October 24, 2024.

Affected Public: Individuals or Households.

Estimated Annual Burden: 13,917 hours.

Estimated Average Burden per Respondent: 10 minutes.

Frequency of Response: On occasion.

Estimated Number of Respondents: 83,500.

Authority: 44 U.S.C. 3501 et seq.

Dorothy Glasgow,
VA PRA Clearance Officer, (Alt).
Office of Enterprise and Integration, Data Governance Analytics, Department of Veterans Affairs.

[FR Doc. 2024-31327 Filed 12-27-24; 8:45 am]

BILLING CODE 8320-01-P